DEPARTMENT OF TRANSPORTATION

Federal Aviation Administration

[Docket No. FAA-2022-1001]

Request for Comments in Minimum Seat Dimensions Necessary for Safety of Air Passengers (Emergency Evacuation)

AGENCY: Federal Aviation Administration (FAA), Department of Transportation (DOT).

ACTION: Request for comments.

SUMMARY: In 2018, Congress directed the FAA to, after notice and comment, issue such rules for minimum dimensions for passenger seats that are necessary for passenger safety. The FAA conducted simulated emergency evacuations, the results of which are in a publicly-available report. The FAA seeks public comment on the minimum seat dimensions that are necessary for passenger safety.

DATES: Written comments must be received on or before November 1, 2022.

ADDRESSES: Send comments identified by docket number FAA-2022-1001 using any of the following methods:

• Federal eRulemaking Portal: Go to www.regulations.gov and follow the online instructions for sending your comments electronically.

• Mail: Send comments to Docket Operations, M-30; U.S. Department of Transportation (DOT), 1200 New Jersey Avenue SE, Room W12-140, West Building Ground Floor, Washington, DC 20590-0001.

• Hand Delivery or Courier: Take comments to Docket Operations in Room W12-140 of the West Building Ground Floor at 1200 New Jersey Avenue SE, Washington, DC, between 9 a.m. and 5 p.m., Monday through Friday, except Federal holidays.

• Facsimile: Fax comments to Docket Operations at (202) 493-2251.

Privacy: In accordance with 5 U.S.C. 553(c), DOT solicits comments from the public to better inform its rulemaking process. DOT posts these comments, without edit, including any personal information the commenter provides, to www.regulations.gov, as described in the system of records notice (DOT/ALL-14 FDMS), which can be reviewed at www.dot.gov/privacy.

Docket: Background documents or comments received may be read at www.regulations.gov at any time. Follow the online instructions for accessing the docket or go to the Docket Operations in Room W12-140 of the West Building Ground Floor at 1200 New Jersey Avenue SE, Washington, DC, between 9 a.m. and 5 p.m., Monday through Friday, except Federal holidays.

FOR FURTHER INFORMATION CONTACT: For questions concerning this action, contact Mary Schooley, Aviation Safety, Federal Aviation Administration, 2200 S. 216th St, Des Moines, WA 98198, telephone: 206-231-3499, email: AIR-seat-spacing-comments@faa.gov.

SUPPLEMENTARY INFORMATION:

I. Background

Section 577 of the FAA Reauthorization Act of 2018 (Pub. L. 115-254, “the Act”) directed the FAA to issue, after notice and comment, such rules as necessary for the safety of passengers with regard to the minimum dimensions, including seat pitch, width, and length, of passenger seats on aircraft operated by air carriers in interstate air transportation or intrastate air transportation. Section 577 recognizes the FAA's statutory mission of safety in air commerce. 49 U.S.C. 44701. To gather data in furtherance of the agency's implementation of Section 577 of the Act, the FAA conducted simulated emergency evacuations at the FAA's Civil Aerospace Medical Institute (CAMI) and produced a report.

Additionally, Section 337 of the Act directed the FAA to review, with stakeholders, the evacuation certification of transport-category aircraft used in air transportation, and report the results of the review to Congress. In support of the agency's compliance with Section 337 of the Act, the FAA chartered the Emergency Evacuation Standards Aviation Rulemaking Committee (ARC) to gather the stakeholders needed to perform the required review of evacuation issues. The ARC submitted a report to the FAA.¹ The FAA, in a report to Congress, submitted the ARC report along with the CAMI report on March 31, 2022.² These reports are available in the docket.

¹ www.faa.gov/regulations_policies/rulemaking/committees/documents/media/Emergency%20Evac%20Standards%20ARC%20final%20report%20final%20(5-26-2020).pdf.

² www.faa.gov/data_research/research/med_humanfacs/oamtechreports/2020s/media/Effects_of_Airplane_Cabin_Interiors_on_Egress_I.pdf.

II. Request for Comments

In furtherance of the agency's implementation of Section 577 of the Act, the FAA invites public comments to assist the agency in determining what minimum dimensions (including pitch, width, and length) of passenger seats may be necessary for safety, including in particular airplane evacuation. The FAA has assessed what safety issues could be associated with seat dimensions and concluded that additional data regarding evacuations could be valuable.

The FAA invites comments on minimum seat dimensions necessary for passenger safety, especially during airplane evacuation, as the FAA examines whether new regulatory standards are necessary, in order to ensure such safety and comply with Section 577 of the Act. The FAA encourages commenters to review the CAMI report, and other materials in the docket, prior to commenting.

Comments should address whether, considering the existing regulatory requirements,³ one or more of the following seat dimensions ⁴ have or demonstrably could adversely affect the safety of air passengers by delaying the group egress time ⁵ of an emergency evacuation:

³ Under the relevant general performance standard provided by 14 CFR 25.803(a), transport category airplanes must have means to allow rapid evacuation under various conditions, including in the event of a fire. In § 25.803(c), the FAA mandates that the maximum seating capacity of the airplane can be evacuated to the ground under simulated emergency conditions within 90 seconds. However, the FAA established the 90-second requirement as a uniform, repeatable standard under specific conditions, not a standard that the FAA expects to be met in every actual emergency evacuation. In addition, 14 CFR 25.561(d) and 25.562(c)(8) require that seats having experienced static and dynamic emergency landing loads do not deform to the extent that they would impede rapid evacuation.

⁴ For purposes of this request for comments, seat pitch is the distance between a fixed point on an airplane seat to the same fixed point on the seat directly in front of or behind that seat. Seat width is the distance between the armrests' inner faces directly above the bottom seat cushion. Seat length is the distance between the top aft edge of the bottom seat cushion to the top front edge. Also, CAMI discusses the terms it used for its study on pp. 21-22 of its report.

⁵ For purposes of this request for comments, the group egress time is the time from when the aircraft comes to a rest after a crash or incident, to when the last passenger exits the aircraft.

a. Seat width;

b. Seat pitch;

c. Seat length; and

d. Other seat dimensions.

Further, commenters are asked to provide information regarding the minimum seat dimensions necessary to ensure safety during airplane evacuation of a broad range of passengers, including those who were not included in the CAMI study including children, people over 60, and individuals with disabilities.

The FAA emphasizes that comments that include technical data and information will be the most helpful. The FAA is not requesting comments regarding matters unrelated to the agency's determination under section 577, such as how the dimensions of passenger seats might relate to passenger comfort or convenience.

Issued under authority provided by Public Law 115-254, 49 U.S.C. 106(f), 44701(a), and 44703 in Washington, DC, on July 20, 2022.

Jodi L. Baker,
Deputy Associate Administrator for Aviation Safety.

[FR Doc. 2022-16565 Filed 8-2-22; 8:45 am]

BILLING CODE 4910-13-P